DEPARTMENT OF DEFENSE

Uniformed Services University of the Health Sciences

Sunshine Act Meeting

Agency Holding the Meeting: Uniformed Services University of the Health Sciences.

Time and Date: 8:00 a.m. to 4:00 p.m., February 5, 2002.

Place: Uniformed Services University of the Health Sciences, Board of Regents Conference Room (D3001), 4301 Jones Bridge Road, Bethesda, MD 20814-4799.

Status: Open—under “Government in the Sunshine Act” (5 U.S.C. 552b(e)(3)).

Matters to be Considered:

8:30 a.m. Meeting—Board of Regents

(1) Approval of Minutes—November 14, 2001

(2) Faculty Matters

(3) Department Reports

(4) Financial Report

(5) Report—President, USUHS

(6) Report—Dean, School of Medicine

(7) Report—Dean, Graduate School of Nursing

(8) Comments—Chairman, Board of Regents

(9) New Business

CONTACT PERSON FOR MORE INFORMATION: Mr. Bobby D. Anderson, Executive Secretary, Board of Regents, (301) 295-3116.

Dated: February 8, 2002.
Linda Bynum,
OSD Federal Register Liaison Officer, Department of Defense.

[FR Doc. 02-3683 Filed 2-11-02; 3:32 pm]

BILLING CODE 5001-08-M